NATIONAL CREDIT UNION ADMINISTRATION

Sunshine Act; Notice of Matter To Be Deleted From the Agenda of a Previously Announced Agency Meeting

Time and Date: 11:15 a.m., Thursday, May 21, 2009.

Place: Board Room, 7th Floor, Room 7047, 1775 Duke Street, Alexandria, VA 22314-3428.

Status: Closed.

Matter to be Deleted: 3. Personnel (1). Closed pursuant to some or all of the following: Exemptions (2) and (6).

FOR FURTHER INFORMATION CONTACT: Mary Rupp, Secretary of the Board, Telephone: 703-518-6304.

Mary Rupp,
Board Secretary.

[FR Doc. E9-11843 Filed 5-18-09; 11:15 am]

BILLING CODE P